DEPARTMENT OF ENERGY

Federal Energy Regulatory Commission

[Project No. 2596-004 New York]

Rochester Gas and Electric Corporation; Notice of Availability of Draft Environmental Assessment

December 21, 2000.

A Draft Environmental Assessment (DEA) is available for public review. The DEA is for an application to surrender the license for the Station 160 Hydroelectric Project. The DEA finds that approval of the application, to include certain actions recommended by Commission staff, would not constitute a major federal action significantly affecting the quality of the human environment. The Station 160 Project is located on the Genesee River in Livingston County, New York.

The DEA was written by staff in the Office of Energy Projects, Federal Energy Regulatory Commission. Copies of the DEA can be obtained by calling the Commission's Public Reference Room at (202) 208-1371.

Please submit any comments on the DEA within 40 days from the date of this notice. Any comments, conclusions, or recommendations that draw upon studies, reports, or other working papers of substance should be supported by appropriate documentation. Comments should be addressed to: The Secretary, Federal Energy Regulatory Commission, 888 First Street NE., Washington, DC 20426. Please affix Project No. 2596-004 to all comments. Comments and protests may be filed electronically via the internet in lieu of paper. See, 18 CFR 385.2001(a)(1)(iii) and the instructions on the Commission's web site at ­http://www.ferc.fed.us/efi/doorbell.htm.

Linwood A. Watson, Jr.,
Acting Secretary.

[FR Doc. 00-33329 Filed 12-28-00; 8:45 am]

BILLING CODE 6717-01-M